DEPARTMENT OF DEFENSE

Office of the Secretary

Department of Defense Science and Technology Reinvention Laboratory (STRL) Personnel Management Demonstration (Demo) Project Program

AGENCY: Assistant Secretary of Defense for Research and Engineering, DoD.

ACTION: This notice amends existing STRL Personnel Management Demonstration Project Programs.

SUMMARY: STRLs may implement a new direct hire authority to appoint and noncompetitively convert to the competitive service qualified candidates enrolled in a program of undergraduate or graduate instruction leading to an undergraduate or advanced degree in a scientific, technical, engineering or mathematical course of study. STRLs may appoint students to a temporary, term, modified term (for those STRLs with modified term appointment authority), or flexible length student term appointment that will expire 120 days after completion of the designated academic course of study. Students may also be appointed to temporary, term or flexible length student term appointments at the discretion of the STRL Director. Students hired under the Scientific, Technology, Engineering, and Mathematics (STEM) Student Employment Program (SSEP) may receive a relocation incentive/bonus each time the SSEP student returns to duty similar to the authority granted to the Air Force Research Laboratory (AFRL) in 75 FR 53076, August 30, 2010.

DATES: This notice may be implemented beginning on June 28, 2017.

FOR FURTHER INFORMATION CONTACT:

Department of the Army

• ARL: Ms. Dianne Hawkins, Program Manager, ARL Personnel Demonstration Project, RDRL-LOH, 2800 Powder Mill Road, Adelphi, MD 20783-1197;

• AMRDEC: Mr. Chad Marshall, Demonstration Project Manager, AMRDEC, 5400 Fowler Road, Redstone Arsenal, AL 35898-5000;

• CERDEC: Mr. Christopher Tahaney, CERDEC Personnel Demonstration Project Administrator, C4ISR Campus Building 6002, Room D3126D, ATTN: RDER-DOS-ER, Aberdeen Proving Ground, MD 21005;

• ECBC: Ms. Patricia Milwicz, Management and Program Analyst, ECBC, Directorate of Program Integration, Workforce Management Office, Department of the Army, ATTN: RDCB-DPC-W, 5183 Blackhawk Road, Building 3330, Aberdeen Proving Ground, MD 21010-5424;

• ERDC: Ms. Patricia Sullivan, Personnel Demonstration Project Manager, U.S. Army ERDC, 3909 Halls Ferry Road, Vicksburg, MS 39180-6199;

• MRMC: Ms. Linda Krout, Personnel Demonstration Project Manager, 505 Scott St, Fort Detrick, MD 21702-5000;

• NSRDEC: Ms. Joelle Montecalvo, Demonstration Project Manager, NSRDEC, Kansas Street, (AMSRD-NSR-BO-W), Natick, MA 01760;

• TARDEC: Ms. Jennifer Davis, TARDEC, ATTN: RDTA-CS/MS 204, Warren, MI 48397-5000;

• ARDEC: Mr. Mike Nicotra, U.S. Army ARDEC, Human Capital Management Office, Building 1, 3rd Floor, RDAR-EIH, Picatinny Arsenal, NJ 07806-5000.

Department of the Air Force

• AFRL: Ms. Rosalyn Jones-Byrd, Personnel Demonstration Project Manager, AFRL, 1864 4th Street, Wright-Patterson Air Force Base, OH 45433-5209.

Department of the Navy

• ONR: Ms. Margaret J. Mitchell, Director, Civilian Human Resources, ONR, 875 North Randolph Street, Code BD, Arlington, VA 22203;

• NRL: Ms. Ginger Kisamore, Human Resources Director/Demonstration Project Program Manager, NRL, 4555 Overlook Avenue SW., Washington, DC 20375-5320;

• NAVSEA Warfare Centers: Ms. Diane Brown, NAVSEA Warfare Centers Personnel Demonstration Project Manager, Naval Surface Warfare Center Philadelphia Division, 5001 South Broad Street, Philadelphia, PA 19112-5083;

• NAVAIR, Weapons Division and Aircraft Division: Mr. Richard Cracraft, Naval Air Warfare Center, Weapons Division (NAWCWD), Code 730000D, 1 Administration Circle, Building 00464, China Lake, CA 93555-6100;

• Space and Naval Warfare Systems Command, Space and Naval Warfare Systems Center (SSC):

○ SSC Atlantic: Ms. Veronica Truesdale, SSC Atlantic STRL Project Lead, SSC Atlantic, P.O. Box 190022, North Charleston, SC 29419-9022;

○ SSC Pacific: Ms. Angela Hanson, SSC Pacific STRL Project Lead, SSC Pacific, 53560 Hull Street, San Diego, CA 92152-5001.

DoD

Dr. Jagadeesh Pamulapati, Director, DoD Laboratories Office, 4800 Mark Center Drive, Alexandria, VA 22350, (571) 372-6372, jagadeesh.pamulapati.civ@mail.mil.

SUPPLEMENTARY INFORMATION:

1. Background

Section 342(b) of the National Defense Authorization Act (NDAA) for Fiscal Year (FY) 1995, Public Law (Pub. L.) 103-337, as amended by section 1109 of the NDAA for FY 2000, Public Law 106-65, and section 1114 of the NDAA for FY 2001, Public Law 106-398, authorizes the Secretary of Defense (SECDEF) to conduct personnel demonstration projects at DoD laboratories designated as STRLs. All STRLs authorized by section 1105 of the NDAA for FY 2010, Public Law 111-84, as well as any newly-designated STRLs authorized by SECDEF or future legislation may use the provisions described in this Federal Register Notice (FRN). STRLs implementing this flexibility must have an approved personnel management demonstration project plan published in a FRN and shall fulfill any collective bargaining obligations. Each STRL shall establish internal operating procedures as appropriate. The 15 current STRLs are:

• Army Research Institute (ARI)

• Army Research Laboratory (ARL)

• Aviation and Missile Research, Development, and Engineering Center (AMRDEC)

• Communications-Electronics Research, Development, and Engineering Center (CERDEC)

• Edgewood Chemical Biological Center (ECBC)

• Engineer Research and Development Center (ERDC)

• Medical Research and Materiel Command (MRMC)

• Natick Soldier Research, Development and Engineering Center (NSRDEC)

• Tank Automotive Research, Development and Engineering Center (TARDEC)

• Armament Research, Development and Engineering Center (ARDEC)

• Space and Missile Defense Command (SMDC)

• Air Force Research Laboratory (AFRL)

• Office of Naval Research (ONR)

• Naval Research Laboratory (NRL)

• Naval Sea Systems Command (NAVSEA) Warfare Centers

• Naval Air Systems Command (NAVAIR) Warfare Centers, Weapons Division and Aircraft Division

• Space and Naval Warfare Systems Command, Space and Naval Warfare Systems Center (SSC), Atlantic and Pacific

2. Overview

I. Introduction

A. Purpose

Section 1105 of the NDAA for FY 2015 establishes a new direct hire authority for students enrolled in a scientific, technical, engineering, or mathematics course of study at an accredited institution of higher education on a temporary or term basis. The purpose of this direct-hire authority is to provide a streamlined and accelerated hiring process that allows the STRLs to compete successfully with private industry for high-quality scientific, technical, engineering, or mathematics students for filling STRL scientific and engineering positions. This authority creates a unique student hiring authority for the STRL scientific and engineering positions: The STEM SSEP. Section 1104 of the NDAA for FY16 provides students appointed under the SSEP the opportunity for noncompetitive conversion to a permanent scientific or engineering position upon graduation from the applicable institution of higher education.

To effectively implement the SSEP, this FRN also:

1. Establishes SSEP student employment qualification standards, similar to the Pathways qualification standards, which will allow students appointed under this authority to be aligned to a pay band/grade commensurate with the highest level of education completed and/or prior experience.

2. Establishes a flexible length student term appointment, which will provide a mechanism for students appointed under the SSEP to remain on a term appointment until completion of their educational program. Absent this flexibility, SSEP appointees would be limited to a four-year appointment in accordance with 5 CFR 316.301.

B. Required Waivers to Law and Regulation

Section 1105 of the NDAA for FY 2015 permits the Department to waive subchapter I of chapter 33 of title 5, U.S Code (U.S.C.) (other than sections 3303 and 3328) when using the SSEP direct-hire authority. Section 1104 of the NDAA for FY 2016 permits the Department to waive provisions of subchapter I of chapter 33 of title 5, U.S.C. (other than sections 3303 and 3328) and provides for noncompetitive conversion of SSEP students. Appendix A lists the laws, rules, and regulations that require waivers to implement the authorities described in this FRN.

C. Expected Benefits

This direct-hire authority is expected to streamline the hiring and development of high-quality SSEP students pursuing bachelors or advanced degrees in STEM courses of study. This direct-hire and noncompetitive conversion authority enhances the STRLs' ability to compete with private industry by improving recruiting efforts; providing clear career tracks for STEM students from undergraduate through post-graduate school; and offering career progression opportunities for STEM students who join the STRL scientific and engineering workforce.

D. Participating Organizations and Employees

All DoD laboratories designated as STRLs under section 1105 of the NDAA for FY 2010 and section 1105 of the NDAA for FY 2015 (including any newly-designated STRLs authorized by SECDEF or by future legislation) with approved personnel management demonstration project plans published in FRNs may use the provisions described in this FRN.

II. Personnel System Changes

All current STRL demonstration project plans are hereby amended to add the following:

A. Authority

STRLs may use the direct-hire authority authorized by section 1105 of the NDAA for FY 2015 to appoint students pursuing bachelors or advanced degrees in STEM disciplines to temporary, term, flexible length student term, or, for those STRLs with modified term appointment authority, via modified term appointments. STRLs may use the authority authorized by section 1104 of the NDAA for FY 2016 to provide SSEP students noncompetitive conversion to permanent scientific or engineering positions upon graduation from the applicable institution of higher education provided the students meet all eligibility criteria and Office of Personnel Management (OPM) qualification requirements for the position.

B. Definitions

1. STEM positions are those positions described in the STRL FRN (Appendix B) or internal operating procedures in the Scientist and Engineer and/or Technical Career Paths. The positions not classified under the broad-banding structure will be identified in respective STRL internal operating procedures.

2. Institution of higher education is defined in sections 1001 and 1002 of the Higher Education Act of 1965 (20 U.S.C. 1001).

3. Qualified candidates are defined as students who:

(a) Are enrolled (or accepted for enrollment) in a program of undergraduate or graduate instruction leading to a bachelor's or advanced degree in a (STEM) course of study at an institution of higher education as that term is defined in section B.2., and includes those enrolled in a 2-year university parallel (or equivalent) program designed specifically for transfer to a 4-year institution.

(b) Meet the minimum qualification standards for the position as described in Appendix C of this FRN or the specific STRL demonstration project qualification standards for the position to be filled.

4. “Employee” is defined by 5 U.S.C. 2105.

C. Provisions

1. Use of this appointment authority must be consistent with merit system principles.

2. Student appointments authorized by section 1105 of the NDAA for 2015 may be term, modified term, flexible length student term or temporary. If students are appointed under existing term or modified term appointments because flexible length student term appointments are not available at the time of appointment, they may convert to the new flexible length student term appointment provided they were notified in writing at the time of the initial appointment of the possibility they may be converted at a later date.

3. Qualified candidates may be appointed to scientific and engineering student positions without regard to the provisions of subchapter I of chapter 33, title 5, U.S.C. (other than sections 3303 and 3328).

4. Upon graduation from the applicable institution of higher education, successful candidates in section 2.II.C.3. may be noncompetitively converted to permanent scientific or engineering positions in the competitive service within the STRL without regard to the provisions of 5 U.S.C. chapter 33 (other than sections 3303 and 3328).

5. During each calendar year, each STRL may use this authority to appoint no more than (10) percent of the total number of scientific and engineering positions within the STRL that are filled at the close of the previous fiscal year.

6. Classification/Pay Bands/Career Tracks. This FRN authorizes the STRLs to establish separate pay band/career track level(s) or to modify existing pay band/career track level(s) and classification guidelines to accommodate students hired under this direct-hire authority. Specific details regarding student classification pay band/career track level(s) shall be included in the respective STRLs' internal operating procedures.

7. Temporary Appointments (Students). Temporary appointments are typically used for short-term use (e.g., summer employment), however, temporary appointments may be made for up to one year and may be extended provided the criteria for the student appointment continue to be met. An appointment after a break-in-service of three or more days shall count against the direct-hire allocation in section 2.II.C.5. Students may not be promoted while serving on the temporary appointment, but may be converted to a new appointment at a higher grade/band level provided the student meets the qualification requirements for the higher grade/band position. This conversion to a new appointment does not count against the direct-hire allocation in section 2.II.C.5.

8. Flexible Length Student Term Appointments (Students). A flexible length student term appointment authority is created for SSEP students appointed for a period of at least one year. The flexible length student term appointment will have no end date, but will expire 120 days after completion of the designated academic course of study unless the human resources office has been notified via receipt of a Request for Personnel Action (SF-52) for noncompetitive conversion to a permanent position. The eligibility criteria for the student appointment must continue to be met for the duration of the appointment. SSEP participants who complete one educational program and continue to meet the definition of “student” in section 2.II.B.3(a) while further pursuing their education are not counted against the direct-hire allocation in 2.II.C.5 as a new appointment.

(a) Promotion. Students may be promoted while serving on the flexible length student term appointment to a higher grade/band level provided the student meets the program and qualification requirements for the position.

9. SSEP participants must complete a probationary period in accordance with 10 U.S.C. 1599e, or an approved STRL Lab Demo extended probationary period requirement, upon conversion to the competitive service. When an SSEP participant is converted directly from the SSEP to a permanent, competitive service position in a similar line of work without a break in service, time spent in the SSEP may be credited toward probationary period completion in accordance with title 5 CFR 315.802.

10. Documenting Personnel Actions (Students). Personnel actions for appointments of SSEP appointees are documented citing the first legal authority code (LAC)/legal authority as Z2U/Public Law 103-337. The second LAC/legal authority will be Z5CD/Direct-Hire Auth (STRL-Student), section 1105(1)(a)(3), Public Law 113-291, 12/19/2014.

11. Noncompetitive Conversion to Permanent Appointment. Students on temporary, term, or flexible length student term SSEP appointments may be noncompetitively converted to a permanent appointment at the discretion of the STRL director. The authority to convert the student to a permanent position may be further delegated in the STRL's internal operating procedures. These conversions do not count against the direct-hire allocation in 79 FR 43722, July 28, 2014, paragraph 2.II.B.4.

(a) Students employed under the SSEP may be noncompetitively converted to a permanent appointment upon graduation from the applicable institution of higher learning, provided the student meets all eligibility criteria and OPM qualification requirements for the STRL scientific or engineering position.

(b) The conversion request must be submitted to the human resources office within 120 days of completion of all degree requirements, but before the time-limited appointment expires.

(1) Time spent under a term or flexible length student term appointment shall count towards probationary period completion and career tenure. If the student was converted from a temporary to a term or flexible length student term appointment without a break in service of three days and was subsequently converted to a permanent position, the temporary time shall also count towards career tenure.

(2) Time spent under a temporary appointment, unless otherwise provided in section 2.II.C.11(b)(1), is not counted towards career tenure.

(3) SSEP students are subject to a probationary period as specified in section 2.II.C.9.

(4) The provisions of the career transition assistance programs in subparts B, F, and G of 5 CFR part 330 do not apply to the noncompetitive conversions.

(c) In cases where the STRL Director does not plan to convert the SSEP student to a permanent position, the SSEP's Flexible Length Student Term appointment may be terminated less than 120 days after completion of the designated academic course of study, subject to any applicable requirements of 5 U.S.C. chapter 75.

12. Documenting Personnel Actions (Noncompetitive Conversions). Personnel actions for noncompetitive conversions of SSEP participants to permanent appointments are documented citing the first legal authority code (LAC)/legal authority as Z2U/Public Law 103-337. The second LAC/legal authority will be Z5CE/Direct-Hire Auth (STRL-SSEP Conv), section 1104, Public Law 114-92, 11/25/2015.

13. Recruitment flexibilities.

(a) Tuition Assistance.

(1) Students may be eligible for tuition assistance. At the STRL Director's discretion, a student may be required to sign a written service agreement to continue in service for a period of up to three times the length of the time spent in training prior to accepting tuition assistance. The requirement for the length of the service obligation should be included in the respective STRL's internal operating procedures.

(2) A student who is eligible to continue employment for the duration of the obligated service and who does not fulfill the service obligation may be required to provide repayment. Pursuant to 5 CFR chapter 1, section 410.309(c).

(3) Expenses of training. Students hired under the SSEP may be paid travel expenses when the worksite is in a different geographic location than that of the student's academic institution. Pursuant to 5 U.S.C. 4109(a)(2), these expenses may be paid each time the student returns to duty to the STRL. Procedures for paying these expenses shall be documented in the STRL's respective internal operating procedures.

(b) Pay Flexibilities.

(1) STRLs may use any applicable pay flexibilities (e.g., recruitment, relocation, and retention incentives under 5 CFR part 575; student loan repayments under 5 CFR part 537; and the superior qualifications and special needs pay setting authority and the maximum payable rate rule under 5 CFR part 531, subpart B, or demonstration project pay flexibilities). Procedures for paying these flexibilities shall be documented in the STRL's respective internal operating procedures.

(2) Relocation Incentive/Bonus. Students hired under the SSEP may receive a relocation incentive/bonus. The authority to pay relocation incentives is expanded to allow an STRL to pay an incentive each time the student returns to duty to the laboratory. This authority applies to all student positions in the STRLs and provides the ability to expand recruitment to top universities and incentivize mobility by paying additional expenses to students accepting employment outside of their geographic area. A relocation bonus may be paid when the worksite is in a different geographic location than that of the student's college and is intended to cover some or all of the student's living expenses while working in the STRL. Procedures for paying these incentives shall be documented in the STRLs internal operating procedures. This section provides all designated STRLs the authority to implement a relocation bonus similar to the authority granted to the AFRL in the Air Force Research Laboratory in 75 FR 53076.

D. Personnel Considerations

1. Work Schedules. There are no limitations on the number of hours a student can work per week as long as all applicable laws and regulations governing overtime and hours of work are adhered to. Supervisors and students should agree on a schedule of school and work such that work responsibilities do not interfere unduly with the academic schedule and that completion of the educational program is accomplished.

2. Break in Program. STRL directors may use their discretion in either approving or denying a request for a break in program. This may be further delegated in the STRLs' internal operating procedures. A break in program is a period of time when the student is working but is unable to go to school, or is neither attending classes nor working.

3. Reduction in Force (RIF). Demonstration project students are covered by the RIF rules outlined in each STRL's FRN. Students serving under a temporary appointment are covered under Tenure Group 0 until completion of one year of continuous creditable civilian service. If the temporary appointment is extended for an additional year, then the tenure changes to Tenure Group 3. Students serving on a term appointment are covered under Tenure Group 3.

Note: All STRL RIF rules must be updated to incorporate the requirements of 10 U.S.C. 1597(f).

4. Termination.

(a) Temporary appointments expire upon the not-to-exceed date, unless extended.

(b) Flexible Length Student Term appointments for SSEP students expire 120 days after completion of the designated academic course of study, unless the human resources office has been notified that the student will be converted noncompetitively to a permanent position as described in paragraph 2.II.C.11.

(c) Individuals may retain eligibility for SSEP if they continue to meet the definition of a “student” (i.e., are enrolled in a qualifying academic program) as identified in Section 2.II.B.3 and meet any academic requirements specified by the employing STRL.

(d) Students may be terminated for reasons including, but not limited to, mission requirements, misconduct, poor performance (including academic), or suitability.

E. Authorized Positions

1. SSEP appointments. The number of appointments made in a calendar year may not exceed 10 percent of the total number of scientific and engineering positions in such STRL, to include Senior Executive Service, Senior Technical, Senior Scientific Technical Manager or above General Schedule (GS)-15, military, and students within the STRL that are filled as of the close of the fiscal year ending before the start of such calendar year.

2. When determining the number of appointments authorized, if the percentage of authorized positions does not equal a whole number, the STRL shall round down to the next lower number.

3. Any changes to these authorizations, such as (but not limited to) increasing the number of appointments allowed or extending/eliminating the sunset date, do not require additional FRN notification.

F. Evaluation

STRLs will provide information and data on the use of these direct-hire appointment authorities including numerical limitations, hires made, declinations, veterans hired, difficulties encountered, and/or recognized efficiencies when requested by the SECDEF, head of the Military Department, Assistant Secretary of Defense (Research & Engineering), or Deputy Assistant Secretary of Defense (Civilian Personnel Policy).

Appendix A

United States Code and Code of Federal Regulations Waived Science and Technology Reinvention Laboratories

Title 5, United States Code | Title 5, Code of Federal Regulations
Subchapter I of chapter 33 of title 5, U.S.C. (other than sections 3303 and 3328) | 5 CFR 300-330, other than Subpart G of 300 waived to the extent necessary to allow provisions of the direct hire authorities as described in this FRN.
| 5 CFR Part 316, Subparts C-D—Waived to the extent necessary to allow provisions of the direct hire authorities as described in this FRN.
5 U.S.C. 4108 (a)-(c)—Employee Agreements; Service after Training. Waive to allow: (1) the STRLs to determine if a service agreement is required and if so, to determine the period of required service for students employed under the Demo; (2) the Commanding Officer or the Laboratory STRL Director to waive in whole or in part a right of recovery; and (3) allow students to sign a service agreement up to three times the length of the training | 5 CFR, Part 410, § 410.309—Waived to allow: (1) the STRLs to determine if a service agreement is required and if so, the period of required service for students employed under the demo; (2) the Commanding Officer or the STRL Director to waive in whole or in part a right of recovery; and (3) allow students to sign a service agreement up to three times the length of the training.
5 U.S.C. 5753—Recruitment and relocation bonuses. Waived to the extent necessary to allow those STRL scientific and engineering employees and positions to be treated as employees and positions under the General Schedule and to allow relocation incentives to be paid to SSEP students whose worksite is in a different geographic location than that of the college in which enrolled each time they return to duty | 5 CFR part 575, Subparts A and B—Recruitment and Relocation Incentives. Waived to the extent necessary to allow employees hired and positions under the SSEP program to be treated as employees and positions under the General Schedule and to allow relocation incentives to be paid to SSEP students whose worksite is in a different geographic location than that of the college in which enrolled each time they return to duty.

Appendix B

STRLs Federal Register Notice of Approval of a Demonstration Project Plan

Part 1: STRLs Authorized by Director of Defense Research and Engineering, Memo 30 Aug 1994 and Section 342 of the FY 1995 NDAA, Public Law 103-337

STRL | Federal Register notice
Air Force Research Laboratory | 61 FR 60400 amended by 75 FR 53076.
Army Research Laboratory | 63 FR 10680.
Aviation and Missile Research, Development, and Engineering Center | 62 FR 34906 and 62 FR 34876 amended by 65 FR 53142 (AVRDEC and AMRDEC merged together).
Communications-Electronics Research, Development, and Engineering Center | 66 FR 54872.
Engineer Research and Development Center | 63 FR 14580.
Medical Research and Material Command | 63 FR 10440.
Naval Research Laboratory | 64 FR 33970.
Naval Sea Systems Command Warfare Centers | 62 FR 64050.

Part 2. STRLs Authorized by Section 1105 of the FY 2010 NDAA, Public Law 111-84

STRL | Federal Register notice
Armament Research, Development and Engineering Center | 76 FR 3744.
Edgewood Chemical Biological Center | 74 FR 68936.
Natick Soldier Research, Development and Engineering Center | 74 FR 68448.
Naval Air Systems Command Warfare Centers, Weapons and Aircraft Divisions | 76 FR 8530.
Office of Naval Research | 75 FR 77380.
Space and Naval Warfare Systems Command, Space and Naval Warfare Systems Center, Atlantic and Pacific | 76 FR 1924.
Tank Automotive Research, Development and Engineering Center | 76 FR 12508.

Appendix C

Qualification Standards for STRL Student Trainee Positions

This standard describes the qualification requirements for the STEM Student Employment Program (SSEP) participants.

Requirements for SSEP Participants

Appointments may be at the highest grade or level for which the participant is qualified.

Grade/level | Level of education
GS-2 or Demo Equivalent | Completion of high school or GED diploma.
GS-3 or Demo Equivalent | Completion of 1 full academic year of post-high school study.
GS-4 or Demo Equivalent | Completion of 2 full academic years of post-high school study or an associate's degree.
GS-5 or Demo Equivalent | Completion of 4 academic years of post-high school leading to a bachelor's or equivalent degree.
GS-7 or Demo Equivalent | Completion of 1 full academic year of graduate level education; or eligibility under the Superior Academic Achievement Provision and completion of a bachelor's degree.
GS-9 or Demo Equivalent | Completion of 2 academic years of graduate level education, or a master's degree or equivalent graduate degree.
GS-11 or Demo Equivalent | For research positions, completion of all requirements for a master's or equivalent degree. For non-research positions, completion of all requirements for a PhD or equivalent degree.

One full academic year of undergraduate; graduate; technical or high school education is the number of credit hours determined by the college, university or school to represent one year of full-time study. The high school curriculum must be approved by a State or local governing body. All education beyond the high school level must be accredited by an accrediting body or organization recognized by the U.S. Department of Education.

Special Provisions/or Students with Previous Related Education or Experience. Previous education and/or experience may be evaluated to determine the highest grade level/band for which the student is qualified.

Dated: June 22, 2017.
Aaron Siegel,
Alternate OSD Federal Register Liaison Officer, Department of Defense.

[FR Doc. 2017-13487 Filed 6-27-17; 8:45 am]

BILLING CODE 5001-06-P